DEPARTMENT OF LABOR

Employment and Training Administration

[TA-W-55,270]

Niagara Mohawk Power Corporation, Batavia, NY, and Other Locations in Western NY; Notice of Termination of Investigation

Pursuant to Section 221 of the Trade Act of 1974, as amended, an investigation was initiated on July 19, 2004, in response to a worker petition filed by a county official on behalf of workers at Niagara Mohawk Power Corporation, Batavia, New York, and other locations in western New York.

The petitioner has requested that the petition be withdrawn. Consequently, the investigation has been terminated.

Signed at Washington, DC this 2nd day of July 2004.
Elliott S. Kushner,
Certifying Officer, Division of Trade Adjustment Assistance.

[FR Doc. 04-18735 Filed 8-16-04; 8:45 am]

BILLING CODE 4510-30-P